EXPORT-IMPORT BANK OF THE UNITED STATES

Notice of Open Special Meeting of the Advisory Committee of the Export-Import Bank of the United States (Ex-Im Bank)

Summary: The Advisory Committee was established by Pub. L. 98-181, November 30, 1983, to advise the Export-Import Bank on its programs and to provide comments for inclusion in the reports of the Export-Import Bank of the United States to Congress.

Time and Place: Tuesday, September 20, 2005, from 9:30 a.m. to 12 p.m. The meeting will be held at the Ex-Im Bank in the Main Conference Room 1143, 811 Vermont Avenue, NW., Washington, DC 20571.

Agenda: Agenda items include discussion of renewable energy exports and related export financing trends.

Public Participation: The meeting will be open to public participation, and the last 10 minutes will be set aside for oral questions or comments. Members of the public may also file written statement(s) before or after the meeting. If you plan to attend, a photo ID must be presented, and you may contact Teri Stumpf to be placed on the attendee list. If any person wishes auxiliary aids (such as a sign language interpreter) or other special accommodations, please contact, prior to September 16, 2005, Teri Stumpf. Room 1203, 811 Vermont Avenue, NW., Washington, DC 20571, Voice: (202) 565-3502 or TDD (202) 565-3377.

Further Information: For further information, contact Teri Stumpf, Room 1203, 811 Vermont Ave., NW., Washington, DC 20571, (202) 565-3502.

Howard A. Schweitzer,
Acting General Counsel.

[FR Doc. 05-17370 Filed 8-31-05; 8:45 am]

BILLING CODE 6690-01-M